NUCLEAR REGULATORY COMMISSION

Revised Notice of Intent To Prepare a Generic Environmental Impact Statement for Uranium Milling Facilities

AGENCY: United States Nuclear Regulatory Commission (NRC).

ACTION: Revised Notice of Intent (NOI).

SUMMARY: This notice revises a notice published on September 27, 2007, in the Federal Register (72 FR 54947), which announced, in part, that the scoping period for the NRC's Generic Environmental Impact Statement (GEIS) for uranium recovery facilities was extended to October 31, 2007. The purpose of this revised notice is to further extend the scoping comment period to November 30, 2007.

DATES: The NRC has received a letter dated October 16, 2007, from the National Mining Association (NMA) in which the NMA requested an extension of the date for submitting comments on the scope of the GEIS. In response, the NRC has determined that the public scoping period for the GEIS is extended to November 30, 2007. This is the 3rd extension of the comment period, which originally was to end on September 4, 2007. However, due to several requests, the period first was extended to October 8, 2007, and then again until October 31, 2007. With this current extension, the comment period will be approximately 130 days and greatly exceeds the typical length of NRC scoping comment periods. Thus NRC does not intend to provide any further extensions of the comment period. Written comments submitted by mail should be postmarked by that date to ensure consideration. Comments mailed after that date will be considered to the extent possible.

ADDRESSES: Members of the public and interested parties are invited, and encouraged to submit comments to the Chief, Rulemaking, Directives and Editing Branch, Mail Stop T-6D59, U.S. Nuclear Regulatory Commission, Washington, DC 20555-0001. Also, the NRC encourages comments to be submitted electronically to NRCREP@nrc.gov. Please refer to the “Uranium Recovery GEIS” when submitting comments.

FOR FURTHER INFORMATION CONTACT: For general information on the NRC NEPA process, or the environmental review process related to this GEIS, please contact: James Park, Project Manager, Division of Waste Management and Environmental Protection (DWMEP), Mail Stop T-8F5, U.S. Nuclear Regulatory Commission, Washington, DC, 20555-0001, by phone at 1 (800) 368-5642, extension 6935, or by e-mail at JRP@nrc.gov. For general or technical information associated with the safety and licensing of uranium milling facilities, please contact: William Von Till, Branch Chief, Uranium Recovery Branch, DWMEP, Mail Stop T-8F5, U.S. Nuclear Regulatory Commission, Washington, DC 20555-0001, by phone at 1 (800) 368-5642, extension 0598, or by e-mail at RWV@nrc.gov.

Information and documents associated with the GEIS are available for public review through the NRC electronic reading room: http://www.nrc.gov/reading-rm/adams.html. Documents may also be obtained from the NRC Public Document Room at U.S. Nuclear Regulatory Commission Headquarters, 11555 Rockville Pike (first floor), Rockville, MD 20852-2738.

GEIS related documents will also be found at the following public libraries:

Albuquerque Main Library, 501 Copper NW., Albuquerque, New Mexico 87102, 505-768-5141.

Mother Whiteside Memorial Library, 525 West High Street, Grants, New Mexico 87020, 505-287-4793.

Octavia Fellin Public Library, 115 W. Hill Avenue, Gallup, New Mexico 87301, 505-863-1291.

Natrona County Public Library, 307 East Second Street, Casper, Wyoming 82601, 307-237-4935.

Fremont County Public Library, 275 North 2nd Street, Lander, Wyoming 82520, 307-332-5194.

Carbon County Public Library, 215 W Buffalo Street, Rawlins, Wyoming 82301, 307-328-2618.

SUPPLEMENTARY INFORMATION:

1.0 Background

The NRC is expecting numerous license applications for in-situ leach (ISL) uranium milling facilities in the coming 2-3 years. This GEIS is intended to address the common issues associated with environmental reviews of such milling facilities located in the western United States. Due to environmental issues common to ISL milling facilities, the NRC staff will be addressing these common issues generically to aid in a more efficient environmental review for each separate license application, if and when these applications are submitted.

ISL milling facilities recover uranium from low grade ores that may not be economically recoverable by other methods. In this process, a leaching agent, such as oxygen with sodium bicarbonate, is added to native ground water for injection through wells into the subsurface ore body to dissolve the uranium. The leach solution, containing the dissolved uranium, is pumped back to the surface and sent to the processing plant, where ion exchange is used to separate the uranium from the solution. The underground leaching of the uranium also frees other metals and minerals from the host rock. Operators of ISL facilities are required to restore the ground water affected by the leaching operations. The milling process concentrates the recovered uranium into the product known as “yellowcake” (U3O8). This yellowcake is then shipped to uranium conversion facilities for further processing in the overall uranium fuel cycle.

One alternative to ISL milling is the conventional uranium milling process that extracts uranium from mined ore. At conventional mills, the ore arrives via truck and is crushed, ground, and leached. In most cases, sulfuric acid is the leaching agent, but alkaline leaching can also be done. The leaching agent not only extracts uranium from the ore but also several other constituents (e.g., vanadium, selenium, iron, lead, and arsenic). Conventional mills extract 90 to 95 percent of the uranium from the ore. These mills are typically in areas of low population density, and they typically process ores from mines within 50 kilometers (30 miles). Conventional mills may also produce significant quantities of waste materials, known as mill tailings, from the ore processing. These tailings are contained in impoundments which can be as large as 250 to 300 acres in extent. It is estimated that roughly 95 percent of the incoming ore ends as mill tailings. These mill tailings contain most of the radioactive progeny of uranium and may be a significant source of radon and radon progeny releases to the environment.

The GEIS will focus on the construction, operation, and decommissioning of ISL mills and also assesses alternative methods of uranium recovery. It is noted that the hardrock mining associated with conventional uranium milling is regulated by other entities (e.g., the U.S. Bureau of Land Management, and various state agencies).

For more information on the uranium fuel cycle, please see Regulating Nuclear Fuel, NUREG/BR-0280, Rev. 1, (which can be found online at: http://www.nrc.gov/reading-rm/doc-collections/nuregs/brochures/br0280/).

2.0 Alternatives To Be Evaluated

No action—The no-action alternative would be to not build nor license potential uranium milling facilities. Under this alternative the NRC would not approve future license applications. This alternative serves as a baseline for comparison of the potential environmental impacts.

Proposed action—The proposed action is the construction, operation, and decommissioning of an ISL uranium mill. Implementation of the proposed action would require the issuance of an NRC license under the provisions of 10 CFR part 40.

Alternatives—The conventional milling process is one alternative. Other alternatives not listed in this notice may be identified through the scoping process.

3.0 Environmental Impact Areas To Be Analyzed

The following resource areas have been tentatively identified for analysis in the GEIS:

—Public and Occupational Health: addressing the potential public and occupational consequences from construction, routine operation, transportation, and credible accident scenarios (including natural events), and decommissioning;

—Waste Management: addressing the types of wastes expected to be generated, handled, stored or subject to re-use or disposal;

—Land Use: addressing land use plans, policies and controls;

—Transportation: addressing the transportation modes, routes, quantities, and risk estimates;

—Geology and Soils: addressing the physical geography, topography, geology and soil characteristics;

—Water Resources: addressing the surface and ground water hydrology, water use and quality, and the potential for degradation;

—Ecology: addressing wetlands, aquatic, terrestrial, economically and recreationally important species, and threatened and endangered species;

—Air Quality: addressing meteorological conditions, ambient background, pollutant sources, and the potential for degradation;

—Noise: addressing ambient noises, sources, and sensitive receptors;

—Historical and Cultural Resources: addressing historical, archaeological, and traditional cultural resources;

—Visual and Scenic Resources: Addressing landscape characteristics, man-made features and viewshed;

—Socioeconomics: Addressing the demography, economic base, labor pool, housing, transportation, utilities, public services/facilities, education, recreation, and cultural resources;

—Environmental Justice: Addressing the potential disproportionately high and adverse impacts to minority and low-income populations; and

—Cumulative Effects: Addressing the impacts from past, present, and reasonably foreseeable actions at and near the site.

The examples under each resource areas are not intended to be all inclusive, nor is this list an indication that environmental impacts will occur. The list is presented to facilitate comments on the scope of the GEIS. Additions to, or deletions from, this list may occur as a result of the public scoping process.

4.0 Tiering

Tiering refers to the coverage of general matters in broader environmental impact statements with subsequent narrower statements or environmental analyses incorporating by reference the general discussions and concentrating solely on the issues specific to the narrower statement (40 CFR 1508.28). The NRC intends to use the GEIS to address common issues associated with environmental reviews of ISL uranium milling facilities located in the western United States and then develop site-specific environmental assessments or site-specific environmental impact statements which will tier off the common issues identified and evaluated in the GEIS.

5.0 Scoping Comments

Scoping is an early and open process designed to determine the range of actions, alternatives, and potential impacts to be considered in the GEIS, and to identify the significant issues related to the proposed action. Scoping is intended to solicit input from the public and other agencies so that the analysis can be more clearly focused on issues of genuine concern.

Written comments should be mailed to the address listed above in the ADDRESSES section. Scoping comments may also be submitted electronically via email to NRCREP@nrc.gov. Please refer to the “Uranium Recovery GEIS” when submitting comments. The NRC staff will prepare a scoping summary report, in which it will summarize public comments. The NRC will make the scoping summary report and project-related materials, along with other relevant information on the GEIS, available at an NRC Web site, http://www.nrc.gov/materials/fuel-cycle-fac/licensing/geis.html so that the public can keep abreast of the current schedule and progress on the development of the GEIS.

6.0 The NEPA Process

The GEIS will be prepared according to NEPA and NRC's NEPA implementing regulations contained in 10 CFR part 51.

After the scoping process is complete, the NRC will prepare a draft GEIS. The draft GEIS is scheduled to be published by April 2008. A public comment period on the draft GEIS is planned, and public meetings to receive comments will be held approximately 3 weeks after publication of the draft GEIS.

Availability of the draft GEIS, the dates of the public comment period on the draft GEIS, and information about the public comment meetings will be announced in the Federal Register, on NRC's Web page, and in the local news media. The final GEIS is expected to be published in January 2009 and will address, as appropriate, the public comments received on the draft GEIS.

Dated at Rockville, Maryland, this 29th day of October, 2007.
For the Nuclear Regulatory Commission.
Larry W. Camper,
Director, Division of Waste Management and Environmental Protection, Office of Federal and State Materials and Environmental Management Programs.

[FR Doc. E7-21604 Filed 10-31-07; 8:45 am]

BILLING CODE 7590-01-P